DEPARTMENT OF ENERGY

Federal Energy Regulatory Commission

[Docket No. EL18-201-000]

Notice of Complaint; Louisiana Public Service Commission v. Entergy Services, Inc., Entergy Arkansas, Inc., Entergy Louisiana, LLC, Entergy Mississippi, Inc., Entergy New Orleans, LLC, Entergy Texas, Inc.

Take notice that on September 19, 2018, pursuant to sections 206, 306, and 309 of the Federal Power Act, 16 U.S.C. 824e, 825e, and 825h, and Rule 206 of the Federal Energy Regulatory Commission's (Commission) Rules of Practice and Procedure, 18 CFR 385.206, the Louisiana Public Service Commission (Complainant) filed a formal complaint (Complaint) against Entergy Services, Inc., Entergy Arkansas, Inc., Entergy Louisiana, LLC, Entergy Mississippi, Inc. Entergy New Orleans, LLC, and Entergy Texas, Inc. (collectively, Respondents) alleging that the failure of the Respondents to include 100 percent of the costs of Transmission Control Centers that are owned by Entergy Services Inc. in the Respondents' Midcontinent Independent System Operator, Inc. Attachment O expenses is unjust, unreasonable and unduly discriminatory, as more fully explained in the Complaint.

The Complainant certifies that copies of the Complaint were served on contacts for the Respondents.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondents' answer and all interventions, or protests must be filed on or before the comment date. The Respondents' answer, motions to intervene, and protests must be served on the Complainants.

The Commission encourages electronic submission of protests and interventions in lieu of paper using the eFiling link at http://www.ferc.gov. Persons unable to file electronically should submit an original and 5 copies of the protest or intervention to the Federal Energy Regulatory Commission, 888 First Street NE, Washington, DC 20426.

This filing is accessible on-line at http://www.ferc.gov, using the eLibrary link and is available for electronic review in the Commission's Public Reference Room in Washington, DC There is an eSubscription link on the website that enables subscribers to receive email notification when a document is added to a subscribed docket(s). For assistance with any FERC Online service, please email FERCOnlineSupport@ferc.gov, or call (866) 208-3676 (toll free). For TTY, call (202) 502-8659.

Comment Date: 5:00 p.m. Eastern Time on October 9, 2018.

Dated: September 20, 2018.
Kimberly D. Bose,
Secretary.

[FR Doc. 2018-21062 Filed 9-26-18; 8:45 am]

BILLING CODE 6717-01-P